DEPARTMENT OF HOUSING AND URBAN DEVELOPMENT

[Docket No. FR-4837-D-28]

Revocation and Redelegation of Authority Under Section 561 of the Housing and Community Development Act of 1987

AGENCY: Office of the Assistant Secretary for Fair Housing and Equal Opportunity, HUD.

ACTION: Notice of revocation and redelegation of authority.

SUMMARY: The Assistant Secretary for Fair Housing and Equal Opportunity (FHEO) revokes all prior redelegations of authority made within the office of the Assistant Secretary for FHEO under Section 561 of the Housing and Community Development Act of 1987, the Fair Housing Initiatives Program (FHIP), and redelegates this authority to FHEO headquarters and regional staff.

EFFECTIVE DATE: July 25, 2003.

FOR FURTHER INFORMATION CONTACT: Myron P. Newry, Director: FHIP/FHAP Division, Office of Fair Housing and Equal Opportunity, Department of Housing and Urban Development, 451 Seventh Street, SW., Room 5224, Washington, DC 20410-2000. Telephone: (202) 708-2288 Ext. 7095. (This is not a toll-free number.) Hearing- and speech-impaired individuals may access this number through TTY by calling the toll-free Federal Information Relay Service at 1-800-877-8339.

SUPPLEMENTARY INFORMATION: The Fair Housing Initiatives Program contained in the Housing and Community Development Act of 1987 (Pub. L. 100-242, approved February 5, 1988) authorizes the Secretary to provide funding to state and local governments or their agencies, public or private non-profit organizations or other public or private entities formulating or carrying out programs to prevent or eliminate discriminatory housing practices. This enables the recipients to carry out activities designed to obtain enforcement of the rights granted by the federal Fair Housing Act or by substantially equivalent state or local fair housing laws. This also enables the recipients to carry out education and outreach activities designed to inform the public of their rights and obligations under such federal, state or local laws prohibiting discrimination. On May 21, 1988, the Secretary delegated to the Assistant Secretary for FHEO the authority to administer the Fair Housing Initiatives Program, pursuant to 24 CFR 125.104(a). (See 53 FR 25583, July 7, 1988.)

Through this notice, the Assistant Secretary for FHEO redelegates to the General Deputy Assistant Secretary for FHEO the authority, under Section 561 of the Housing and Community Act of 1987, to administer the Fair Housing Initiatives Program. The General Deputy Assistant Secretary for FHEO, in turn, redelegates this authority to the Deputy Assistant Secretary for Enforcement and Programs, to the Director of the Office of Enforcement and to the FHEO Hub Directors.

Accordingly, the Assistant Secretary for FHEO and the General Deputy Assistant Secretary for FHEO redelegate authority as follows:

Section A. Authority Redelegated

The Assistant Secretary for FHEO redelegates to the General Deputy Assistant Secretary for FHEO the authority to act under Section 561 of the Housing and Community Act of 1987 (Pub. L. 100-242, February 5, 1988). The General Deputy Assistant Secretary for FHEO redelegates this authority to the Deputy Assistant Secretary for Enforcement and Programs, to the Director of the Office of Enforcement and to the FHEO Hub Directors.

Section B. Authority Excepted

The authority redelegated in this notice does not include the authority to issue or waive regulations. The authority redelegated to the General Deputy Assistant Secretary for FHEO does not include the authority to determine the appropriate reporting and record maintenance, as provided in 24 CFR 125.104(e), or the authority to waive requirements under 24 CFR part 125 not required by statute, as provided in 24 CFR 125.106.

Section C. Authority Revoked

All prior redelegations of authority made within the office of the Assistant Secretary for FHEO regarding section 561 of the Housing and Community Development Act of 1987, the Fair Housing Initiatives Program, are revoked.

Section D. Authority To Redelegate

The authority redelegated to the Deputy Assistant Secretary for Enforcement and Programs, to the Director of the Office of Enforcement and to the FHEO Hub Directors may not be further redelegated.

Authority: Section 7(d) of the Department of Housing and Urban Development Act, 42 U.S.C. 3535(d).

Dated: July 25, 2003.
Carolyn Y. Peoples,
Assistant Secretary for Fair Housing and Equal Opportunity.
Floyd O. May,
General Deputy Assistant Secretary for Fair Housing and Equal Opportunity.

[FR Doc. 03-19781 Filed 8-1-03; 8:45 am]

BILLING CODE 4210-28-P